DEPARTMENT OF TRANSPORTATION

Federal Aviation Administration

14 CFR Part 39

[Docket No. FAA-2009-0804; Directorate Identifier 2008-SW-56-AD; Amendment 39-16013; AD 2009-18-17]

RIN 2120-AA64

Airworthiness Directives; Agusta S.p.A. Model AB412 and AB412 EP Helicopters

AGENCY: Federal Aviation Administration (FAA), Department of Transportation (DOT).

ACTION: Final rule; request for comments.

SUMMARY: We are adopting a new airworthiness directive (AD) for the specified Agusta S.p.A. (Agusta) Model AB412 and AB412 EP helicopters. This AD results from mandatory continuing airworthiness information (MCAI) issued by the European Aviation Safety Agency (EASA), which is the Technical Agent for the Member States of the European Community. The MCAI establishes a life limit for certain rescue hoist cable assemblies and introduces the term “hoist lift” for determining cable life instead of the term “hoist cycle.” The MCAI also establishes a replacement time for each affected rescue hoist cable assembly (hoist cable assembly) for which the accumulated number of “hoist cycles” cannot be determined. The actions are intended to prevent failure of a hoist cable and inadvertent loss of a load.

DATES: This AD becomes effective on September 21, 2009.

We must receive comments on this AD by November 3, 2009.

ADDRESSES: You may send comments by any of the following methods:

• Federal eRulemaking Portal: Go to http://www.regulations.gov. Follow the instructions for submitting your comments electronically.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from Agusta, Via Giovanni Agusta, 520 21017 Cascina Costa di Samarate (VA), Italy, telephone 39 0331-229111, fax 39 0331-229605/222595, or at http://customersupport.agusta.com/technical_advice.php.

Examining the Docket: You may examine the AD docket on the Internet at http://www.regulations.gov or in person at the Docket Operations office between 9 a.m. and 5 p.m., Monday through Friday, except Federal holidays. The AD docket contains this AD, any comments received, and other information. The street address for the Docket Operations office (telephone (800) 647-5527) is stated in the ADDRESSES section of this AD. Comments will be available in the AD docket shortly after receipt.

FOR FURTHER INFORMATION CONTACT: Sharon Miles, Aviation Safety Engineer, FAA, Rotorcraft Directorate, Regulations and Guidance Group, 2601 Meacham Blvd., Fort Worth, Texas 76137, telephone (817) 222-5122, fax (817) 222-5961.

SUPPLEMENTARY INFORMATION:

Discussion

The EASA, which is the Technical Agent for the Member States of the European Community, has issued EASA AD No. 2008-0142-E, dated July 30, 2008, to correct an unsafe condition associated with hoist cable assemblies installed on Agusta Model AB412 and AB412 EP helicopters. The MCAI establishes a life limit for certain hoist cable assemblies and introduces the term “hoist lift” for determining cable life instead of the term “hoist cycle.” The MCAI also establishes a replacement time for each affected hoist cable assembly for which the accumulated number of “hoist cycles” cannot be determined. The actions are intended to prevent failure of a hoist cable assembly and inadvertent loss of a hoist load.

You may obtain further information by examining the MCAI and any related service information in the AD docket.

Related Service Information

Agusta has issued Alert Bollettino Tecnico No. 412-126, dated July 28, 2008 (ABT). The actions described in the MCAI are intended to correct the same unsafe condition as that identified in the service information.

FAA's Evaluation and Unsafe Condition Determination

The Agusta Model AB412 and AB412 EP helicopters have been approved by the aviation authority of Italy and are approved for operation in the United States. Pursuant to our bilateral agreement with Italy, EASA, Italy's Technical Agent, has notified us of the unsafe condition described in the MCAI. We are issuing this AD because we evaluated all information provided by EASA and determined the unsafe condition exists and is likely to exist or develop on other Model AB412 and AB412 EP helicopters of these same type designs.

There are no products of this type currently registered in the United States. However, this rule is necessary to ensure that the described unsafe condition is addressed if any of these products are placed on the U.S. Registry in the future.

Differences Between This AD and the MCAI AD

We use the term “before further flight” rather than “before next flight. Also, we are using “before further flight” rather than October 31, 2008, for replacing a hoist cable assembly if you cannot determine the “hoist cycles” or the date of hoist cable installation.

Costs of Compliance

There are no costs of compliance since there are no helicopters of this type design on the U.S. Registry.

FAA's Determination of the Effective Date

Since there are currently no affected U.S. registered helicopters, we have determined that notice and opportunity for prior public comment before issuing this AD are unnecessary and that good cause exists for making this amendment effective in less than 30 days.

Comments Invited

This AD is a final rule that involves requirements affecting flight safety, and we did not precede it by notice and opportunity for public comment. However, we invite you to send us any written data, views, or arguments concerning this AD. Send your comments to an address listed under the ADDRESSES section of this AD. Include “Docket No. FAA-2009-0804; Directorate Identifier 2008-SW-56-AD” at the beginning of your comments. We specifically invite comments on the overall regulatory, economic, environmental, and energy aspects of this AD. We will consider all comments received by the closing date and may amend this AD because of those comments.

We will post all comments we receive, without change, to http://www.regulations.gov including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on product(s) identified in this rulemaking action.

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-18-17 Agusta S.p.A.: Amendment 39-16013. Docket No. FAA-2009-0804; Directorate Identifier 2008-SW-56-AD.

Effective Date

(a) This airworthiness directive (AD) becomes effective on September 21, 2009.

Other Affected ADs

(b) None.

Applicability

(c) This AD applies to Model AB412 and AB412 EP helicopters, with internal hoist, part number (P/N) 214-070-300-1 (Goodrich P/N 42277-1); external hoist P/N BL-10300-60 (Breeze Eastern) or P/N BL-20200-SERIES (Breeze Eastern), installed, certificated in any category.

Reason

(d) The actions are intended to prevent failure of a hoist cable and inadvertent loss of a load.

Actions and Compliance

(e) Required as indicated, do the following:

(1) Before further flight, for rescue hoist cable assemblies, P/N 42305-179, 42277-178 (internal hoist cable assembly) and P/N BL-6260, BL-9149-3 (external hoist cable assembly), determine the number of accumulated “hoist cycles” for each hoist cable assembly and add that to the number of accumulated “hoist lifts.” A hoist lift is defined as an unreeling and recovery of the cable with a load attached to the hook, regardless of the length of the cable that is deployed or recovered. An unreeling or recovery of the cable with no load on the hook is not considered to be a lift.

(2) Before conducting the next hoist operation, replace any hoist cable assembly that has reached or exceeded 1,500 accumulated hoist lifts or 4 years from initial installation, whichever occurs first.

(3) If you cannot determine the “hoist cycles” or the date of the hoist cable assembly installation, before further flight, replace the hoist cable assembly with an airworthy hoist cable assembly.

(4) This AD revises the Airworthiness limitations section of the maintenance manual by adding a life limit of 1,500 hoist lifts or 4 years, whichever occurs first, for the affected hoist cable assemblies.

Differences Between This AD and the MCAI AD

(f) We use the term “before further flight” rather than “before next flight. Also, we are using “before further flight” rather than October 31, 2008, for replacing a hoist cable if you cannot determine the “hoist cycles” or the date of hoist cable assembly installation.

Other Information

(g) Alternative Methods of Compliance (AMOCs): The Manager, Safety Management Group, FAA, ATTN: Sharon Miles, Aerospace Engineer, Regulations and Policy Group, 2601 Meacham Blvd., Rotorcraft Directorate, Fort Worth, Texas 76137, telephone (817) 222-5122, fax (817) 222-5961 has the authority to approve AMOCs for this AD, if requested, using the procedures found in 14 CFR 39.19.

Related Information

(h) The European Aviation Safety Agency (EASA) MCAI Airworthiness Directive No. 2008-0142-E, dated July 30, 2008, and Agusta Alert Bollettino Tecnico No. 412-126, dated July 28, 2008, contain related information.

Joint Aircraft System/Component (JASC) Code

(i) JASC Code 1400: Miscellaneous Hardware.

Issued in Fort Worth, Texas, on August 26, 2009.
Mark R. Schilling,
Acting Manager, Rotorcraft Directorate, Aircraft Certification Service.

[FR Doc. E9-21116 Filed 9-3-09; 8:45 am]

BILLING CODE 4910-13-P